ENVIRONMENTAL PROTECTION AGENCY

[FRL-9500-01-OAR]

Disclosure of Information Claimed as, or Determined by EPA To Be, Confidential Business Information (CBI) in Renewable Fuel Standard (RFS) Small Refinery Exemption Petitions and Certain RFS Compliance Reports

AGENCY: Environmental Protection Agency (EPA).

ACTION: Notice.

SUMMARY: The U.S. Environmental Protection Agency (EPA) is providing notice of disclosure to all obligated parties under the Renewable Fuel Standard (RFS) program that have petitioned for a small refinery exemption (SRE) or that have submitted any of the following RFS compliance reports: RFS2500 Efficient Producer Data Report, RFS0303 Annual Report, RFS0104 RFS Activity Report, and RFS0105 RFS Activity Report. In response to a request by the U.S. Government Accountability Office (GAO), EPA will disclose information to GAO which has been submitted to EPA that is claimed to be, or has been determined to be, confidential business information (CBI). The information to be disclosed includes all documents, information, and data related to all small refinery exemption petitions received by EPA since May 21, 2021, through December 31, 2023, and all information in the aforementioned RFS compliance reports. These records include, but are not limited to: (a) All materials submitted by the small refineries as part of their petitions; (b) any documentation sent by the Department of Energy (DOE) to EPA stating DOE's findings and scores associated with the petitions and any EPA responses thereto; (c) any EPA record addressing the subject of the exemption petitions, including any analysis that EPA conducted in addition to DOE's findings; and (d) EPA's final exemption decisions sent to the refineries.

DATES: EPA will disclose the material discussed in this document to GAO, including any CBI therein, on March 28, 2022. All CBI-claimed documents will be destroyed, deleted, or returned to EPA at the conclusion of GAO's review.

FOR FURTHER INFORMATION CONTACT: Karen Nelson, Environmental Protection Specialist, Compliance Division, Office of Transportation and Air Quality at nelson.karen@epa.gov or (734) 214-4657.

SUPPLEMENTARY INFORMATION: In connection with a GAO review, EPA received a request under 40 CFR 2.209(b) from GAO for records submitted to EPA under the RFS program since the date EPA last shared similar documents with GAO (May 21, 2021) through December 31, 2023. GAO, as part of the same program review, has also requested access to a RIN analysis that potentially contains derivative CBI sourced from certain RFS compliance reports. The information that will be disclosed to GAO includes all documents, information, and data related to all SRE petitions that are received by EPA between May 21, 2021, and December 31, 2023—including new petitions and supplemental information submitted in support of an existing petition—and all information from the following compliance reports for the specified time periods: RFS2500 Efficient Producer Data Report for compliance years 2016 through 2021; RFS0303 Annual Report for compliance years 2011 through 2019; RFS0104 RFS Activity Report for compliance years 2011 through 2019; and RFS0105 RFS Activity Report for compliance year 2020. These records include, but are not limited to: (a) All materials submitted by the small refineries as part of their petitions; (b) any documentation sent by DOE to EPA stating DOE's findings and score associated with the petitions; (c) any analysis that EPA conducted in addition to DOE's findings; (d) EPA's final exemption decisions sent to the refineries; and (e) all information from the aforementioned RFS compliance reports for the specified time periods.

This notice is being provided pursuant to 40 CFR 2.209(b)(2) to inform potentially affected entities that EPA intends to transmit certain documents, which may contain information submitted by oil refiners and refineries, or any company associated therewith, that is claimed to be, or has been determined to be, CBI to GAO in response to its request for information. The disclosure of CBI is limited to GAO and further disclosure is generally restricted by 31 U.S.C. 716(e), and subject to criminal penalties under 18 U.S.C. 1905. Any objections to this disclosure must be raised within 15 calendar days from publication of this notice.

Dated: March 1, 2022.
Byron Bunker,
Director, Compliance Division, Office of Transportation and Air Quality.

[FR Doc. 2022-05017 Filed 3-9-22; 8:45 am]

BILLING CODE 6560-50-P